ENVIRONMENTAL PROTECTION AGENCY

[AD-FRL-6544-8]

Electric Utility Steam Generating Units: Solicitation of Additional Information for Making Regulatory Determination

AGENCY: Environmental Protection Agency (EPA).

ACTION: Notice of solicitation of additional information.

SUMMARY: The EPA must determine whether hazardous air pollutant (HAP) emissions from electric utility steam generating units should be regulated under section 112 of the Clean Air Act (CAA), as amended, on or before December 15, 2000. In making this determination, the Agency is soliciting any additional information that the public may wish to provide to the EPA prior to the determination.

DATES: Any additional information must be submitted to the EPA no later than March 31, 2000.

ADDRESSES: Members of the public should submit additional information to Public Docket No. A-92-55 at the following address: U.S. Environmental Protection Agency, Air and Radiation Docket and Information Center (6102), 401 M Street, SW, Washington, DC 20460. The docket is located at the above address in Room M-1500, Waterside Mall (ground floor), and may be inspected from 8:00 a.m. to 5:30 p.m., Monday through Friday.

FOR FURTHER INFORMATION CONTACT: Mr. William Maxwell, Combustion Group, Emission Standards Division (MD-13), U.S. Environmental Protection Agency, Research Triangle Park, North Carolina 27711, telephone number: (919) 541-5430, facsimile number: (919) 541-5450, e-mail maxwell.bill@epa.gov.

SUPPLEMENTARY INFORMATION: Section 112(n)(1)(A) of the CAA requires the EPA to perform a study (i.e., utility toxics study) of the hazards to public health reasonably anticipated to occur as a result of HAP emissions from electric utility steam generating units, after imposition of the requirements of the CAA, and to prepare a Report to Congress containing the results of the study. The Agency is to proceed with rulemaking activities under section 112 to control HAP emissions from electric utility steam generating units if the EPA finds such regulation is appropriate and necessary after considering the results of the study. The utility toxics study was completed and the Final Report to Congress issued on February 24, 1998. The Agency is required to make a finding as to whether it is appropriate and necessary to control HAP emissions from electric utility steam generating units no later than December 15, 2000.

In the Final Report to Congress, the EPA stated that mercury is the HAP emission of greatest potential concern from coal-fired utilities and noted several areas where additional research and monitoring were merited. Among the additional research areas noted were: (1) Collection and assessment of additional data on the mercury content of various types of coal; (2) collection and assessment of additional data on mercury emissions; (3) collection and assessment of additional information on control technologies or pollution prevention options that are available, or will be available, and the costs of those options; and (4) further review of the available data on the health impacts associated with exposure to mercury.

The EPA has ongoing investigations and analyses pertaining to these research areas. Three efforts are prominent. First, following issuance of the Final Report to Congress, the EPA initiated an information collection request to gather, under the authority of section 114 of the CAA, data on the mercury content of the coals burned in, and the exhaust gases from, coal-fired utility units during 1999. In addition, the EPA, in conjunction with the U.S. Department of Energy and other parties, is collecting information to assess the effectiveness and costs of various mercury pollution control technologies and pollution prevention options. Finally, the EPA has an agreement with the National Academy of Sciences to perform a review of the available data on the health impacts associated with exposure to mercury. In addition, the EPA is conducting or supporting investigations into mercury transport, human exposure, and other areas.

As indicated above, section 112(n)(1)(A) of the CAA requires the Administrator to regulate electric utility steam generating units under section 112 if such regulation is found to be appropriate and necessary. The Administrator believes that in addition to considering the results of the utility toxics study, she may consider any other available information in making her decision. The activities noted above will provide some of this other information. The EPA is also soliciting any additional information that the public may consider appropriate for consideration during the decision-making process.

Dated: February 17, 2000.
Robert Perciasepe,
Assistant Administrator, Office of Air and Radiation.

[FR Doc. 00-4786 Filed 2-28-00; 8:45 am]

BILLING CODE 6560-50-P